DEPARTMENT OF ENERGY

Bonneville Power Administration

BP Cherry Point Cogeneration Project

AGENCY: Bonneville Power Administration (BPA), Department of Energy (DOE).

ACTION: Notice of intent to prepare an Environmental Impact Statement (EIS).

SUMMARY: This notice announces BPA's intention to prepare a joint National Environmental Policy Act (NEPA)/State Environmental Policy Act (SEPA) EIS in cooperation with the State of Washington Energy Facility Site Evaluation Council (EFSEC) for a proposed new cogeneration plant and its electrical interconnection with the Federal Columbia River Transmission System. The scope of the EIS will include construction and operation of the proposed power plant, a new 1-mile, 230-kilovolt (kV) transmission line, and ancillary facilities. BPA is the lead Federal agency under NEPA and EFSEC is the lead Washington State agency under SEPA.

DATES: All interested parties are invited to comment on the scope of the proposed EIS. An open house and public scoping meeting was held on July 9, 2002, at the Blaine High School Performing Arts Center, 965 H Street, Blaine, Washington. All comments subsequent to the open house should be received by August 9, 2002.

ADDRESSES: To be placed on the project mailing list, including notification of meetings, call toll-free 1-800-622-4520, name this project, BP Cherry Point Cogeneration Project, and leave your complete name and address.

To comment, call toll-free 1-800-622-4519; send an e-mail to the BPA Internet address comment@bpa.gov; or send a letter to Communications, Bonneville Power Administration—KC-7, P.O. Box 12999, Portland, Oregon, 97212.

FOR FURTHER INFORMATION CONTACT: Thomas C. McKinney, Bonneville Power Administration—KEC-4, P.O. Box 3621, Portland, Oregon 97208-3621; toll-free telephone 1-800-282-3713; direct telephone 503-230-4749; or e-mail tcmckinney@bpa.gov. Additional information can be found at BPA's web site: http://www.efw.bpa.gov.

SUPPLEMENTARY INFORMATION: The BP Cherry Point Cogeneration Project is a 720-megawatt (MW) generating station proposed by BP West Coast Products, LLC (BP). The project site is in Whatcom County, Washington, near the community of Birch Bay. BP has requested an interconnection and other transmission services that would allow firm power delivery to the wholesale power market. BPA proposes to execute agreements with BP to provide the interconnection and firm power transmission.

The EIS will evaluate the environmental consequences of the proposed project, including:

• Construction and operation of the powerplant;

• Approximate 1400 ft-long extension of an existing natural gas pipeline on BP property;

• Existing water supply for the BP refinery that would be utilized for the cogeneration facility;

• Wastewater disposal through the existing refinery waste water treatment system;

• Construction and operation by BP of an electrical interconnection consisting of a new 1-mile 230-kilovolt double-circuit, wood pole transmission line from the powerplant switchyard looping into Bonneville's existing 230-kV Custer-Intalco No.1 transmission line, and minor modifications to Bonneville's existing Custer and Intalco Substations.

• Interconnection agreement that BPA proposes with BP; and

• Firm transmission agreement that BPA proposes with BP.

Proposed Action. The BP Cherry Point Cogeneration Project is an approximate 720 MW natural gas-fired combined-cycle combustion turbine cogeneration facility on approximately 33 acres of land adjacent to and northeast of the BP refinery. The plant would be configured with three combustion turbines each driving an electric generator. Each of the gas turbine trains would be equipped with a heat recovery steam generator and duct firing capability to augment steam production. Steam would be produced at high pressure in the heat recovery steam generators and sent to one steam turbine driven electric generator with extraction and condensing capability. The refinery would also serve as a “steam host” for a portion of the steam produced by the combustion turbine. Natural gas would be supplied through an existing company owned proprietary natural gas pipeline running from Canada to the refinery. If additional gas is needed it would be obtained from a third party.

The electrical interconnection would occur approximately one mile east of the refinery on BPA's existing 230-kV transmission line connecting BPA's Custer and Intalco Substations. The entire project, including the new transmission line would be on refinery owned property, and would be entirely contained in a Major Industrial Urban Growth Area/Port Industrial as defined in the Whatcom County Comprehensive Plan, issued May 20, 1997. The area is zoned Heavy Impact Industrial.

Process to Date. BPA is the lead Federal agency for the joint NEPA/SEPA EIS, and EFSEC is the lead Washington State agency. In February 2001, BP requested BPA transmission services. On March 12, 2001, BP requested EFSEC to initiate a Potential Site Study for the BP Cherry Point Cogeneration Project. On May 2, 2001, EFSEC held an open house meeting to introduce the BP Cherry Point Cogeneration Project to interested parties in Whatcom County and the surrounding area. On September 28, 2001, EFSEC published the Potential Site Study. On June 10, 2002, BP submitted to EFSEC an Application for Site Certification.

Alternatives Proposed for Consideration. Alternatives thus far identified for evaluation in the EIS are (1) the proposed action, and (2) no action. Other alternatives may be identified through the scoping process.

Identification of Environmental Issues. The lead agencies have determined that this proposal may have a significant adverse impact on the environment. EFSEC will prepare an EIS consistent with its responsibilities under Chapter 80.50 and 43.21C (2)(c) of the Revised Code of Washington and Chapter 463-47 and 197-11 of the Washington Administrative Code. BPA will prepare an EIS pursuant to NEPA and the Council of Environmental Quality and DOE NEPA regulations. Therefore, BPA and EFSEC intend to prepare a joint NEPA/SEPA EIS addressing both the powerplant and the associated electric power interconnection and transmission facilities. The principal issues identified thus far for consideration in the Draft EIS are (1) air quality impacts, (2) socio-economic impacts including transportation impacts, and (3) wetlands and wildlife habitat impacts.

These issues, together with any additional significant issues identified through the scoping process, will be addressed in the Draft EIS. BPA will also use the EIS and NEPA process to address historic preservation and cultural resource issues under Section 106 of the National Historic Preservation Act.

Receiving comments from interested parties will assure that EFSEC and BPA address in the EIS the full range of issues and potentially significant impacts related to the proposed project. When completed, the Draft EIS will be circulated for review and comment. EFSEC and BPA will hold at least one public comment meeting on the Draft EIS. EFSEC and BPA will consider comments received on the Draft EIS and respond to comments in the Final EIS.

Issued in Portland, Oregon, on June 18, 2002
Stephen J. Wright,
Administrator and Chief Executive Officer.

[FR Doc. 02-17420 Filed 7-10-02; 8:45 am]

BILLING CODE 6450-01-P